DEPARTMENT OF COMMERCE

International Trade Administration

[A-583-853]

Certain Crystalline Silicon Photovoltaic Products From Taiwan: Preliminary Results of Antidumping Duty Administrative Review and Preliminary Determination of No Shipments; 2018-2019

AGENCY: Enforcement and Compliance, International Trade Administration, Department of Commerce.

SUMMARY: The Department of Commerce (Commerce) preliminarily determines that producers/exporters subject to this review made sales of subject merchandise below normal value in the United States during the period of review (POR) February 1, 2018 through January 31, 2019. We invite interested parties to comment on these preliminary results.

DATES: Applicable December 26, 2019.

FOR FURTHER INFORMATION CONTACT: Thomas Martin or Maisha Cryor, AD/CVD Operations, Office IV, Enforcement and Compliance, International Trade Administration, Department of Commerce, 1401 Constitution Avenue NW, Washington, DC 20230; (202) 482-3936 or (202) 482-5831, respectively.

SUPPLEMENTARY INFORMATION:

Background

Commerce is conducting an administrative review of the antidumping duty (AD) order on certain crystalline silicon photovoltaic products (solar products) from Taiwan,¹ covering 36 respondents.² For a complete description of the events that followed the initiation of this review, see the Preliminary Decision Memorandum.³ A list of topics included in the Preliminary Decision Memorandum is included as an appendix to this notice.

¹ See Initiation of Antidumping and Countervailing Duty Administrative Reviews, 84 FR 18777 (May 2, 2019) (Initiation Notice).

² The Initiation Notice listed 40 companies in this administrative review, however: (1) Commerce collapsed Sino-American Silicon Products Inc. and Solartech Energy Corp. in the 2014-2016 administrative review of the order (see Certain Crystalline Silicon Photovoltaic Products from Taiwan: Final Results of Antidumping Duty Administrative Review; 2014-2016, 82 FR 31555 (July 7, 2017)); (2) Commerce listed “EEPV CORP.” and “EEPV Corp.” which refer to the same company; (3) Canadian Solar International, Ltd. and Canadian Solar International Limited refer to the same company; and (4) Canadian Solar Solution Inc. is an erroneous spelling of Canadian Solar Solutions Inc. Regarding Canadian Solar International Limited and Canadian Solar Solutions Inc., see Canadian Solar et al.'s Letter, “Crystalline Silicon Photovoltaic Products from Taiwan, Case No. A-583-853: No Shipment Letter.” dated May 31, 2019 (Canadian Solar No Shipments Letter) at n.1.

³ See Memorandum, “Decision Memorandum for the Preliminary Results of Antidumping Duty Administrative Review: Certain Crystalline Silicon Photovoltaic Products from Taiwan, 2018-2019,” dated concurrently with, and hereby adopted by, this notice (Preliminary Decision Memorandum).

On October 30, 2019, we extended the preliminary results of this review to no later than December 5, 2019.⁴ On December 5, 2019, we extended the preliminary results of this review to no later than December 17, 2019.⁵

⁴ See Memorandum, “Certain Crystalline Silicon Photovoltaic Products from Taiwan: Extension of Time Limit for Preliminary Results of Antidumping Duty Administrative Review,” dated October 30, 2019.

⁵ See Memorandum, “Certain Crystalline Silicon Photovoltaic Products from Taiwan: Extension of Time Limit for Preliminary Results of Antidumping Duty Administrative Review,” dated December 5, 2019.

Scope of the Order 6

⁶ For the full text of the scope of the order, see the Preliminary Decision Memorandum.

The merchandise covered by this order is crystalline silicon photovoltaic cells, and modules, laminates and/or panels consisting of crystalline silicon photovoltaic cells, whether or not partially or fully assembled into other products, including building integrated materials. Merchandise covered by this order is currently classified in the Harmonized Tariff Schedule of the United States (HTSUS) under subheadings 8501.61.0000, 8507.20.8030, 8507.20.8040, 8507.20.8060, 8507.20.8090, 8541.40.6020, 8541.40.6030 and 8501.31.8000. These HTSUS subheadings are provided for convenience and customs purposes; the written description of the scope is dispositive.

Preliminary Determination of No Shipments

Seven of the companies under review properly filed a statement that they made no shipments of subject merchandise to the United States during the POR.⁷ Based on their certifications and our analysis of U.S. Customs and Border Protection (CBP) information, we preliminarily determine that these seven companies had no reviewable transactions during the POR. Consistent with our practice, we are not preliminarily rescinding the review with respect to these seven companies. Rather, we will complete the review for these companies and issue appropriate instructions to CBP based on the final results of this review.⁸ For additional information regarding this determination, see the Preliminary Decision Memorandum.

⁷ See certifications of no shipments filed by AU Optronics Corporation, Canadian Solar Inc., Canadian Solar International Limited, Canadian Solar Manufacturing (Changshu), Inc., Canadian Solar Manufacturing (Luoyang), Inc. and Vina Solar Technology Co., Ltd., dated May 31, 2019. Regarding Motech Industries Ltd. See Motech Industries Ltd.'s Letter, “Certain Crystalline Silicon Photovoltaic Products from Taiwan: Response to May 20, 2019 Questionnaire,” dated June 17, 2019.

⁸ See Non-Market Economy Antidumping Proceedings: Assessment of Antidumping Duties, 76 FR 65694, 65694-95 (October 24, 2011) and the “Assessment Rates” section, infra; see also Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

Methodology

Commerce is conducting this review in accordance with section 751(a)(1) and (2) of Tariff Act of 1930, as amended (the Act). Export price and constructed export price were calculated in accordance with section 772 of the Act. Normal value is calculated in accordance with section 773 of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov and is available to all parties in the Central Records Unit, Room B8024 of the main Commerce building. In addition, the complete Preliminary Decision Memorandum can be accessed directly on the internet at http://enforcement.trade.gov/frn/index.html. The signed Preliminary Decision Memorandum and the electronic version of the Preliminary Decision Memorandum are identical in content.

Preliminary Results of the Review

We preliminarily determine the following weighted-average dumping margins exist for the POR:

Exporter/producer | Estimated weighted-average dumping margin (percent)
Sino-American Silicon Products Inc., Solartech Energy Corp. and Sunshine PV Corporation ⁹ | 2.57
Baoding Jiasheng Photovoltaic Technology Co. Ltd | 2.57
Baoding Tianwei Yingli New Energy Resources Co., Ltd | 2.57
Beijing Tianneng Yingli New Energy Resources Co. Ltd | 2.57
Boviet Solar Technology Co., Ltd | 2.57
Canadian Solar Solutions Inc | 2.57
EEPV Corp | 2.57
E-TON Solar Tech. Co., Ltd | 2.57
Gintech Energy Corporation | 2.57
Hainan Yingli New Energy Resources Co., Ltd | 2.57
Hengshui Yingli New Energy Resources Co., Ltd | 2.57
Inventec Energy Corporation | 2.57
Inventec Solar Energy Corporation | 2.57
KOOTATU Tech. Corp | 2.57
Kyocera Mexicana S.A. de C.V | 2.57
Lixian Yingli New Energy Resources Co., Ltd | 2.57
Lof Solar Corp | 2.57
Mega Sunergy Co., Ltd | 2.57
Ming Hwei Energy Co., Ltd | 2.57
Neo Solar Power Corporation | 2.57
Shenzhen Yingli New Energy Resources Co., Ltd | 2.57
Sunengine Corporation Ltd | 2.57
Sunrise Global Solar Energy | 2.57
Tianjin Yingli New Energy Resources Co., Ltd | 2.57
TSEC Corporation | 2.57
United Renewable Energy Co., Ltd | 2.57
Win Precision Technology Co., Ltd | 2.57
Yingli Energy (China) Co., Ltd | 2.57
Yingli Green Energy International Trading Company Limited | 2.57

Assessment Rates

⁹ In the first administrative review of the order, Commerce collapsed Sino-American Silicon Products Inc. and Solartech Energy Corp. and treated the companies as a single entity for purposes of the proceeding. See Certain Crystalline Silicon Photovoltaic Products from Taiwan: Final Results of Antidumping Duty Administrative Review; 2014-2016, 82 FR 31555 (July 7, 2017). Because there were no changes to the facts which supported that decision since that determination was made, we continue to find that these companies are part of a single entity for this administrative review. In the final results of the third administrative review of this proceeding, we included Sunshine PV Corporation in the SAS-SEC entity. See Certain Crystalline Silicon Photovoltaic Products from Taiwan: Final Results of Antidumping Duty Administrative Review and Final Determination of No Shipments; 2017-2018, 84 FR 39802 (August 12, 2019) and the accompanying Issues and Decision Memorandum at n.4.

Upon issuance of the final results, Commerce shall determine, and CBP shall assess, antidumping duties on all appropriate entries covered by this review.

Since the weighted-average dumping margin for the collapsed entity Sino-American Silicon Products Inc., Solartech Energy Corp. and Sunshine PV Corporation is not zero or de minimis (i.e., less than 0.5 percent), we will calculate importer-specific ad valorem AD assessment rates based on the ratio of the total amount of dumping calculated for the importers examined sales to the total entered value of those same sales in accordance with 19 CFR 351.212(b)(1).¹⁰ We will instruct CBP to assess antidumping duties on all appropriate entries covered by this review when the importer-specific assessment rate calculated in the final results of this review is above de minimis (i.e., 0.5 percent). Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review where applicable.

¹⁰ In these preliminary results, Commerce applied the assessment rate calculation method adopted in Antidumping Proceedings: Calculation of the Weighted-Average Dumping Margin and Assessment Rate in Certain Antidumping Proceedings; Final Modification, 77 FR 8101 (February 14, 2012).

In accordance with Commerce's “automatic assessment” practice, for entries of subject merchandise during the POR produced by a respondent that did not know its merchandise was destined for the United States, we will instruct CBP to liquidate entries not reviewed at the all-others rate of 19.50 percent ¹¹ if there is no rate for the intermediate company(ies) involved in the transaction.¹² We intend to issue instructions to CBP 15 days after publication of the final results of this review.

¹¹ See Certain Crystalline Silicon Photovoltaic Products: Final Determination of Sales at Less Than Fair Value, 79 FR 76966 (December 23, 2014) (Final Determination).

¹² For a full discussion of this practice, see Antidumping and Countervailing Duty Proceedings: Assessment of Antidumping Duties, 68 FR 23954 (May 6, 2003).

Cash Deposit Requirements

The following deposit requirements will be effective upon publication of the notice of final results of administrative review for all shipments of solar products from Taiwan entered, or withdrawn from warehouse, for consumption on or after the date of publication provided by section 751(a)(2)(C) of the Act: (1) The cash deposit rate for each company listed above ¹³ will be equal to the dumping margins established in the final results of this review except if the ultimate rates are de minimis within the meaning of 19 CFR 351.106(c)(1), in which case the cash deposit rates will be zero; (2) for merchandise exported by producers or exporters not covered in this administrative review but covered in a prior segment of the proceeding, the cash deposit rate will continue to be the company-specific rate published for the most recently completed segment of this proceeding in which the producer or exporter participated; (3) if the exporter is not a firm covered in this review, a prior review, or the original less-than-fair-value investigation but the producer is, then the cash deposit rate will be the rate established for the most recently completed segment of the proceeding for the producer of the merchandise; and (4) the cash deposit rate for all other producers or exporters will continue to be 19.50 percent, the all-others rate established in the Final Determination. These deposit requirements, when imposed, shall remain in effect until further notice.

¹³ As explained in the Preliminary Decision Memorandum, the collapsed entity consisting of Sino-American Silicon Products Inc., Solartech Energy Corp. and Sunshine PV Corporation dissolved during the period of review. Specifically, Solartech Energy Corp. and Sunshine PV Corporation ceased to exist. Therefore, the dumping margin established for the collapsed entity will be the cash deposit rate for Sino-American Silicon Products Inc.

Disclosure and Public Comment

Commerce will disclose to parties to this proceeding the calculations performed in reaching the preliminary results within five days of the date of publication of these preliminary results.¹⁴ Pursuant to 19 CFR 351.309(c)(1)(ii), interested parties may submit case briefs not later than 30 days after the date of publication of this notice. Rebuttal briefs, limited to issues raised in the case briefs, may be filed not later than five days after the date for filing case briefs.¹⁵ Parties who submit case briefs or rebuttal briefs in this proceeding are requested to submit with the argument: (1) A statement of the issue, (2) a summary of the argument, and (3) a table of authorities.¹⁶ All briefs must be filed electronically using ACCESS. An electronically filed document must be received successfully in its entirety by Commerce's electronic records system, ACCESS.

¹⁴ See 19 CFR 351.224(b).

¹⁵ See 19 CFR 351.309(d).

¹⁶ See 19 CFR 351.309(c)(2) and (d)(2).

Interested parties who wish to request a hearing must submit a written request to the Assistant Secretary for Enforcement and Compliance, U.S. Department of Commerce, using Enforcement and Compliance's ACCESS system within 30 days of publication of this notice.¹⁷ Requests should contain the party's name, address, and telephone number, the number of participants, and a list of the issues to be discussed. If a request for a hearing is made, we will inform parties of the scheduled date for the hearing which will be held at the U.S. Department of Commerce, 1401 Constitution Avenue NW, Washington, DC 20230, at a time and location to be determined.¹⁸ Parties should confirm by telephone the date, time, and location of the hearing.

¹⁷ See 19 CFR 351.310(c).

¹⁸ See 19 CFR 351.310.

Unless the deadline is extended pursuant to section 751(a)(3)(A) of the Act and 19 CFR 351.213(h)(2), Commerce will issue the final results of this administrative review, including the results of our analysis of the issues raised by the parties in their case briefs, within 120 days after issuance of these preliminary results.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification to Interested Parties

These preliminary results of review is are issued and published in accordance with sections 751(a)(1) and 777(i)(1) of the Act and 19 CFR 351.221(b)(4).

Dated: December 16, 2019.
Jeffrey I. Kessler,
Assistant Secretary for Enforcement and Compliance.

Appendix

List of Topics Discussed in the Preliminary Decision Memorandum

I. Summary

II. Background

III. Scope of the Order

IV. Companies Not Selected for Individual Examination

V. Preliminary Determination of No Shipments

VI. Discussion of the Methodology

VII. Date of Sale

VIII. Product Comparisons

IX. Export Price

X. Normal Value

XI. Currency Conversion

XII. Recommendation

[FR Doc. 2019-27804 Filed 12-23-19; 8:45 am]

BILLING CODE 3510-DS-P